SMALL BUSINESS ADMINISTRATION

National Women's Business Council; Notice of Public Meeting

In accordance with the Women's Business Ownership Act, Public Law 106-554 as amended, the National Women's Business Council (NWBC) would like to announce a forthcoming Council meeting. The meeting will take place on Thursday, May 26, 2005, starting at 1 p.m. until 5 p.m. The meeting will be held at Carlson Companies, 701 Carlson Parkway, Minnetonka, Minnesota 55305. The meeting will discuss the National Women's Business Council's agenda and action items for fiscal year 2005, included and not limited to procurement, access to capital, access to training and technical assistance, access to markets and affordable health care.

Anyone wishing to attend and make an oral presentation must contact Katherine Stanley in writing or by fax no later than Monday, May 23, 2005, in order to be put on the agenda. Katherine Stanley, Administrative Officer, U.S. Small Business Administration, National Women's Business Council, 409 3rd Street, SW., Washington, DC 20416, phone (202) 205-3850, fax (202) 481-2101, e-mail: Katherine.Stanley@sba.gov.

Matthew K. Becker,
Committee Management Officer.

[FR Doc. 05-9496 Filed 5-11-05; 8:45 am]

BILLING CODE 8025-01-P